DEPARTMENT OF COMMERCE

International Trade Administration

[A-351-602, A-588-602, A-583-605, A-549-807, A-570-814]

Certain Carbon Steel Butt-Weld Pipe Fittings From Brazil, Japan, Taiwan, Thailand, and the People's Republic of China: Final Results of the Expedited Sunset Reviews of the Antidumping Duty Orders

AGENCY: Import Administration, International Trade Administration, Department of Commerce.

SUMMARY: On October 1, 2010, the Department of Commerce (the Department) initiated the third sunset reviews of the antidumping duty orders on carbon steel butt-weld pipe fittings from Brazil, Japan, Taiwan, Thailand, and the People's Republic of China (PRC), pursuant to section 751(c) of the Tariff Act of 1930, as amended (the Act). See Initiation of Five-Year (“Sunset”) Review, 75 FR 60731 (October 1, 2010) (Notice of Initiation). The Department has conducted expedited (120-day) sunset reviews of these orders. As a result of these sunset reviews, the Department finds that revocation of the antidumping duty orders would be likely to lead to continuation or recurrence of dumping as indicated in the “Final Results of Reviews” section of this notice.

DATES: Effective Date: February 9, 2011.

FOR FURTHER INFORMATION CONTACT: Catherine Cartsos or Minoo Hatten, AD/CVD Operations, Office 5, Import Administration, International Trade Administration, U.S. Department of Commerce, 14th Street and Constitution Avenue, NW., Washington, DC 20230; telephone: (202) 482-1757 or (202) 482-1690, respectively.

SUPPLEMENTARY INFORMATION:

Background

On October 1, 2010, the Department published the notice of initiation of the sunset reviews of the antidumping duty orders ¹ on carbon steel butt-weld pipe fittings from Brazil, Japan, Taiwan, Thailand, and the PRC pursuant to section 751(c) of the Act. See Notice of Initiation.

¹ See Antidumping Duty Order; Certain Carbon Steel Butt-Weld Pipe Fittings from Brazil, 51 FR 45152 (December 17, 1986); Antidumping Duty Order: Certain Carbon Steel Butt-Weld Pipe Fittings from Japan, 52 FR 4167 (February 10, 1987), Antidumping Duty Order; Certain Carbon Steel Butt-Weld Pipe Fittings From Taiwan, 51 FR 45152 (December 17, 1986); Antidumping Duty Order; Certain Carbon Steel Butt-Weld Pipe Fittings From Thailand, 57 FR 29702 (July 6, 1992); Antidumping Duty Order and Amendment to the Final Determination of Sales at Less Than Fair Value; Certain Carbon Steel Butt-Weld Pipe Fittings From the People's Republic of China, 57 FR 29702 (July 6, 1992).

The Department received notices of intent to participate in these sunset reviews from the domestic interested parties, Weldbend Corporation, Tube Forging of America, Mills Iron Works Inc., and Hackney Ladish, Inc. (collectively, the petitioners), within the 15-day period specified in 19 CFR 351.218(d)(1)(i). The domestic interested parties claimed interested-party status under section 771(9)(C) of the Act as producers of a domestic like product in the United States.

The Department received complete substantive responses to the Notice of Initiation from the domestic interested parties within the 30-day period specified in 19 CFR 351.218(d)(3)(i). The Department received no substantive responses from any respondent interested parties. In accordance with section 751(c)(3)(B) of the Act and 19 CFR 351.218(e)(1)(ii)(C)(2), the Department is conducting expedited (120-day) sunset reviews of the antidumping duty orders on carbon steel butt-weld pipe fittings from Brazil, Japan, Taiwan, Thailand, and the PRC.

Scope of the Orders

Brazil

The merchandise covered by the order consists of certain carbon steel butt-weld type fittings, other than couplings, under 14 inches in diameter, whether finished or unfinished, that have been formed in the shape of elbows, tees, reducers, caps, etc., and, if forged, have been advanced after forging. These advancements may include any one or more of the following: Coining, heat treatment, shot blasting, grinding, die stamping or painting. Such merchandise was classifiable under Tariff Schedules of the United States Annotated (TSUSA) item number 610.8800. These imports are currently classified under subheading 7307.93.30 of the Harmonized Tariff Schedule of the United States (HTSUS). The HTSUS subheading is provided for convenience and customs purposes. The written product description remains dispositive.

Japan

The merchandise covered by the order consists of certain carbon steel butt-weld type fittings, other than couplings, under 14 inches in inside diameter, whether finished or unfinished, that have been formed in the shape of elbows, tees, reducers, caps, etc., and if forged, have been advanced after forging. These advancements may include any one or more of the following: Coining, heat treatment, shot blasting, grinding, die stamping or painting. Such merchandise was classifiable under TSUSA item number 610.8800. These imports are currently classifiable under the HTSUS item number 7307.93.30. Induction pipe bends classifiable under item 7307.93.30 which have at one or both ends tangents that equal or exceed 12 inches in length are excluded from the scope. The HTSUS subheading is provided for convenience and customs purposes. The written product description remains dispositive.

Taiwan

The merchandise covered by this order consists of certain carbon steel butt-weld type fittings, other than couplings, under 14 inches in inside diameter, whether finished or unfinished, that have been formed in the shape of elbows, tees, reducers, and caps, and if forged, have been advanced after forging. These advancements may include one or more of the following: Coining, heat treatment, shot blasting, grinding, die stamping or painting. The Department clarified that the so-called sprink-let is within the scope of the order (57 FR 19602). Such merchandise was classifiable under TSUSA item number 610.8800. These imports are currently classifiable under the HTSUS item number 7307.93.3000. The HTSUS subheading is provided for convenience and for customs purposes. The written product description remains dispositive.

Thailand and PRC

The merchandise covered by the orders consists of certain carbon steel butt-weld pipe fittings, having an inside diameter of less than 14 inches, imported in either finished or unfinished form. These formed or forged pipe fittings are used to join sections in piping systems where conditions require permanent, welded connections, as distinguished from fittings based on other fastening methods (e.g., threaded, grooved, or bolted fittings). Carbon steel butt-weld pipe fittings are currently classified under subheading 7307.93.30 of the HTSUS. The HTSUS subheading is provided for convenience and customs purposes. The written product description remains dispositive.

Analysis of Comments Received

All issues raised in these reviews are addressed in the “Issues and Decision Memorandum for the Expedited Sunset Reviews of the Antidumping Duty Orders on Certain Carbon Steel Butt-Weld Pipe Fittings From Brazil, Japan, Taiwan, Thailand, and the People's Republic of China” from Deputy Assistant Secretary for Antidumping and Countervailing Duty Operations Christian Marsh to Deputy Assistant Secretary for Import Administration Ronald K. Lorentzen dated concurrently with this notice (I&D Memo), which is hereby adopted by this notice. The issues discussed in the I&D Memo include the likelihood of continuation or recurrence of dumping and the magnitude of the margin likely to prevail if the orders were revoked. Parties can find a complete discussion of all issues raised in these reviews and the corresponding recommendations in this public memorandum which is on file in the Central Records Unit, room 7046 of the main Department of Commerce building.

In addition, a complete version of the I&D Memo can be accessed directly on the Web at http://ia.ita.doc.gov/frn. The paper copy and electronic version of the I&D Memo are identical in content.

Final Results of Reviews

The Department determines that revocation of the antidumping duty orders on carbon steel butt-weld pipe fittings from Brazil, Japan, Taiwan, Thailand, and the PRC would be likely to lead to continuation or recurrence of dumping at the following weighted-average percentage margins:

Country | Company | Weighted-average margin (percent)
Brazil | All manufacturers/producers/exporters | 52.25
Japan | Awaji Sangyo, K.K. | 30.83
| Nippon Benkan Kogyo, Ltd. Co. | 65.81
| All Others | 62.79
Taiwan | Rigid Industries | 6.84
| C.M. Pipe Fittings | 8.57
| Gei Bay | 87.30
| Chup Hsin Enterprises | 87.30
| All Others | 49.46
Thailand | Thai Benkan Company | 52.60
| TTU Industrial Corp. Ltd. | 12.44
| All Others | 40.86
PRC | China North Industries Corp. | 154.72
| Jilin Provincial Machinery & Equipment Import & Export Corp. | 75.23
| Liaoning Machinery & Equipment Import & Export Corp. | 134.79
| Liaoning Metals & Minerals Import & Export Corp. | 103.70
| Shenyang Billiongold Pipe Fittings Co. Ltd. | 110.39
| Shandong Metals & Minerals Import & Export Corp. | 35.06
| Shenyang Machinery & Equipment Import & Export Corp.; Lianoning Metals; Shenshen Machinery Industry Corp. | 182.90
| PRC-Wide Rate | 182.90

Notification Regarding APO

This notice serves as a reminder to parties subject to administrative protective order (APO) of their responsibility concerning the disposition of proprietary information disclosed under APO in accordance with 19 CFR 351.305(a). Timely written notification of the destruction of APO materials or conversion to judicial protective order is hereby requested. Failure to comply with the regulations and terms of an APO is a violation which is subject to sanction.

The Department is issuing and publishing the final results and notice in accordance with sections 751(c), 752(c), and 777(i)(1) of the Act.

Dated: January 31, 2010.
Ronald K. Lorentzen,
Deputy Assistant Secretary for Import Administration.

[FR Doc. 2011-2884 Filed 2-8-11; 8:45 am]

BILLING CODE 3510-DS-P